DEPARTMENT OF AGRICULTURE

Forest Service

Superior National Forest, Kawishiwi Ranger District; Minnesota; Hi Lo Project

AGENCY: Forest Service, USDA.

ACTION: Notice of intent to prepare an environmental impact statement.

SUMMARY: The USDA, Forest Service, will prepare an Environmental Impact Statement (EIS) for the Hi Lo Project. Proposed activities would manage forest vegetation composition, structure, and spatial patterns, as well as the transportation system associated with these activities.

Proposed vegetation activities include creating young forest, improving stand conditions through uneven age management, and restoring stand conditions through a variety of methods. Treatments are proposed throughout the project area, including within three Forest Plan Inventoried Roadless Areas (IRA) and two Roadless Area Conservation Rule Areas (RACR). The proposal would include a project-specific Forest Plan Amendment for prescribed burning within the Boundary Waters Canoe Area Wilderness (hereinafter Wilderness). The Amendment would accommodate only those acres identified in the Wilderness necessary to fulfill the purpose and need of the Hi Lo Project.

DATES: Comments concerning the scope of the analysis must be received by July 10, 2017. The draft EIS is expected September 2017 and the final EIS is expected January 2018.

ADDRESSES: Send written comments to Douglas Smith, Kawishiwi District Ranger, Hi Lo Project EIS, 1393 Hwy. 169, Ely, MN 55731. Comments may also be sent via email to comments-eastern-superior-kawishiwi@fs.fed.us or via facsimile to (218) 365-7605.

FOR FURTHER INFORMATION CONTACT: Linda Merriman, Hi Lo Project Leader, 1393 Hwy. 169, Ely, MN 55731, telephone (218) 365-2095 or lmerriman@fs.fed.us. Individuals who use telecommunication devices for the deaf (TDD) may call the Federal Information Relay Service (FIRS) at 1-800-877-8339 between 8 a.m. and 8 p.m., Eastern Time, Monday through Friday. The initial and modified proposed action documents can also be found online: www.fs.usda.gov/project/?project=47208.

SUPPLEMENTARY INFORMATION:

Purpose and Need for Action

The purpose of the Hi Lo Project is to move the area towards vegetation and landscape ecosystem desired conditions described in the 2004 Superior National Forest Land and Resource Management Plan. Specifically the project would promote and maintain long-term diverse, productive, healthy plant communities and wildlife habitat; improve conditions that minimize undesirable effects of wildfire; provide sustainable forest products; increase recreation opportunities; and manage the transportation system.

Proposed Action

The proposed action would move existing vegetation conditions towards long-term desired composition, structure, and spatial patterns. Healthy forested ecosystems are more resilient and able to recover more quickly in the event of a wildfire or an insect and disease outbreak. Proposed vegetation activities include creating young forest on approximately 2,024 acres, improving stand conditions with harvest (uneven age) on 3,613 acres, restoring stand conditions through release (non-harvest), browse shearing, timber stand improvement, and prescribed burning.

To accomplish the purpose and need, a landscape approach was used to strategically determine where proposed actions should take place. Treatments are proposed throughout the project area, including harvesting 1,362 acres within Big Lake and Agassa Lake IRAs. There is 172 acres of prescribed burning proposed within the Hegman Lakes RACR area and 2,589 acres of prescribed burning proposed within the three IRAs (Big Lake IRA, Agassa Lake IRA, and North Arm Burntside Lake IRA). To protect residences and summer camps outside the Wilderness, and to reduce risk to firefighters, prescribed burning is proposed on 1,314 acres inside the Wilderness.

The project also proposes to increase recreation opportunities by creating new trails, providing road access to other ownerships, and promoting moose and other wildlife habitat by improving lowland sedge areas and oak-blueberry sites.

The proposed action was modified from that originally scoped in August 2016 to account for changed conditions caused by a blowdown event. Further information on the modified proposed action is available at the HiLo Project Web page: www.fs.usda.gov/project/?project=47208.

Possible Alternatives

Possible alternatives include the no-action alternative, alternative 2 (modified from the proposed action which initially went out for scoping in August 2016), and alternative 3 (modifying, reducing or removing treatment acres within certain areas, such as Wilderness and roadless).

Administrative Objection

The Hi Lo Project is an activity implementing a land management plan and is not authorized under the Healthy Forest Restoration Act; therefore, the Hi Lo Project decision is subject to objections following Forest Service regulations at 36 CFR 218, Subparts A and B. Since the Forest Plan Amendment applies only to the Hi Lo Project, it is subject to the same project objection review process. Only individuals or organizations who submit timely and specific written comments, as defined at 36 CFR 218.2, regarding the proposed project are eligible to file an objection to the Hi Lo Project.

In addition to serving as a scoping opportunity, this time period will serve as a designated opportunity for public comment that may provide a commenter with eligibility to object to the proposed project under 36 CFR part 218. Comments are most useful when they are specific to the proposed actions and if received within 30 days from the date of publication in the Federal Register. An additional public comment period will be held once the Draft EIS is complete and comments submitted during that public comment period would also provide the commenter with eligibility to object.

Responsible Official

Forest Supervisor, Superior National Forest.

Nature of Decision To Be Made

An Environmental Impact Statement for the Hi Lo Project will evaluate site-specific issues, consider management alternatives, and analyze potential effects of the proposed action and alternatives. This analysis will include the project specific Forest Plan Amendment needed to conduct prescribed burning in the Wilderness. The scope of the project is limited to decisions concerning activities within the Hi Lo Project Area that meet the purpose and need. An Environmental Impact Statement will provide the responsible official with the information needed to decide which actions, if any, to approve.

Preliminary Issues

Issues identified during the original scoping period (August 2016) included prescribed burning in the Wilderness, harvesting within Forest Plan IRAs, blowdown, site-specific vegetation management, and associated temporary road construction.

Permits or Licenses Required

Easement or permission to cross nonfederal property may be needed to access some treatment units to implement Forest Service activities.

Scoping Process

This notice of intent initiates the scoping process, which guides the development of the Environmental Impact Statement. This will be the initial scoping to include a project-level Forest Plan Amendment in the EIS. The previously scoped proposed action (August 2016) guided us to initiate an EIS and Forest Plan Amendment.

It is important that reviewers provide their comments at such times and in such manner that they are useful to the agency's preparation of the Environmental Impact Statement. Therefore, comments should be provided prior to the close of the comment period and should clearly articulate the reviewer's concerns and contentions.

Comments received in response to this solicitation, including names and addresses of those who comment, will be part of the public record for this proposed action. Comments submitted anonymously will be accepted and considered; however, anonymous comments will not provide the Agency with the ability to provide the respondent with subsequent environmental documents.

Dated: May 26, 2017.
Glenn P. Casamassa,
Associate Deputy Chief, National Forest System.

[FR Doc. 2017-11980 Filed 6-8-17; 8:45 am]

BILLING CODE 3411-15-P